DEPARTMENT OF HOUSING AND URBAN DEVELOPMENT

[Docket No. FR-7007-N-02]

60-Day Notice of Proposed Information Collection: Evaluation of the Supportive Services Demonstration

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 30, 2018.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Evaluation of the Supportive Services Demonstration.

OMB Approval Number: 2528-Pending.

Type of Request: New.

Form Number: No agency forms will be used.

Description of the need for the information and proposed use: The U.S. Department of Housing and Urban Development (HUD) has contracted with Abt Associates Inc. to conduct and evaluate HUD's Supportive Services Demonstration (SSD), also referred to as Integrated Wellness in Supportive Housing (IWISH). The SSD is a three-year demonstration sponsored by HUD to test the impact of a new model of housing-based supportive services on the healthcare utilization and housing stability of low-income older adults. The goal of the SSD model is to help older adults in HUD-assisted housing to age in place successfully. The SSD model funds a full-time Resident Wellness Director (RWD) and part-time Wellness Nurse (WN) to work in HUD-assisted housing developments that either predominantly or exclusively serve households headed by people aged 62 or over. These services are not typically available in HUD-assisted housing developments for this population and are anticipated to positively impact outcomes.

Eligible HUD-assisted properties applied for the demonstration were randomly assigned to one of three groups: A “treatment group” that received grant funding to hire a RWD and WN and implement the SSD model (40 properties); an “active control” group that did not receive grant funding but received a stipend to participate in the evaluation (37 properties); and a “passive control” group that received neither grant funding nor a stipend (47 properties). The random assignment permits an evaluation that quantifies the impact of the SSD model by comparing outcomes at the 40 treatment group properties to outcomes at the 84 properties in the active and passive control groups.

Under contract with HUD's Office of Policy Development and Research, Abt Associates Inc. will conduct a two-part evaluation—a process study to describe the implementation of the demonstration and an impact study to measure the impact of the SSD model on residents' use of healthcare services and housing stability. The evaluation features analysis of administrative data and the following types of primary data collection: (1) Questionnaires for one to two housing and wellness staff at each of the 40 treatment properties and the 37 active control properties (RWD, service coordinator, and/or property manager); (2) interviews with up to four housing and wellness staff (RWDs, WNs, and property managers) at the 40 treatment sites, with one to two staff (service coordinator and/or property manager) at the 37 active control properties, and with a sample of 10 to 15 owners across the 40 treatment properties; (3) focus groups with residents of 20 of the treatment properties; and, (4) focus groups with community service provider partners at 20 of the treatment properties. The purpose of these activities is to collect data from multiple perspectives about implementation experience with the demonstration, the strengths and weakness of the model, and how resident wellness activities compare across treatment and control properties. The evaluation will also incorporate data collected by The Lewin Group as part of the implementation of the demonstration. Information on the SSD information collection was published in the Federal Register on January 9, 2017 (FR-5915-N-14).

Respondents (i.e., affected public): Resident Wellness Directors, Wellness Nurses, Service Coordinators, and housing property staff; property owners; HUD-assisted residents (aged 62 and over); and community health and supportive services staff.

Total Estimated Burdens: The estimated average burden for the questionnaires is 1.25 hours per person per questionnaire. The questionnaire will take an average of 45 minutes to complete by telephone or online, with an additional 30 minutes for scheduling and preparation. There will be one to two respondents from each property and two questionnaires over the course of the evaluation. The total estimated number of respondents for the questionnaires is 117 and the total estimated burden is 292.5 hours.

The estimated average burden for the interviews is 1.5 hours. The interviews will average one hour, with an additional 30 minutes for scheduling and preparation. There will be between one and four interview respondents per property for a total estimated number of respondents of 182 and a total estimated burden of 273 hours.

The estimated average burden for the resident focus group is 1.5 hours. The focus group discussion will average 60 minutes, with an additional 15 minutes at the start for participants to orient themselves to the group and 15 minutes at the end for participants to ask any questions they might have about the study and or how the information will be used. There will be up to 10 participants per resident focus group across 20 properties, for a total of 200 respondents and 300 burden hours.

The estimated average burden for the community partner focus group is 1.75 hours. The focus group discussion will average 75 minutes, with an additional 15 minutes at the start and end for the resident focus group. There will be up to 15 participants per community partner focus group across 20 properties, for a total of 300 respondents and 525 burden hours.

Estimated Hour and Cost Burden of Information Collection
Information collection | Number of respondents | Frequency of response | Responses per annum | Burden hour per response | Annual burden hour | Hourly cost per response | Annual cost
Questionnaires | 117 | 2 | 1 | 1.25 | 292.5 | $34.95 | $10,221.63
Interviews | 182 | 1 | 1 | 1.5 | 273 | 36.84 | 10,056.72
Focus groups—residents | 200 | 1 | 1 | 1.5 | 300 | 7.90 | 2,369.42
Focus groups—providers | 300 | 1 | 1 | 1.75 | 525 | 40.96 | 21,503.32
Total | 799 |  |  |  | 1,390.5 |  | 44,151.09

The total estimated annual cost for this information collection is $44,151.09. To estimate the cost per hour for each type of respondent, we used the most recent (May 2016) Bureau of Labor Statistics, Occupational Employment Statistics median hourly wage for selected occupations classified by Standard Occupational Classification (SOC) codes and added 31.7 percent to account for benefits costs. (According to the Bureau of Labor Statistics' Employer Costs for Employee Compensation data from September 2017, benefit costs averaged 31.7 percent of employer costs for employee compensation across all job categories). To estimate hourly wage rates for Resident Wellness Directors and Service Coordinators, we used the occupation code Healthcare Social Workers (21-1022) with a median hourly wage of $25.85 and an estimated cost with benefits of $34.04. For property owners and managers of properties, we used the occupation code Property, Real Estate, and Community Association Managers (11-940) with a median hourly wage of $27.42 and an estimated cost with benefits of $36.11. For WNs, we used Registered Nurses (29-1141) with a median hourly wage of $32.91 and an estimated cost with benefits of $43.34. We created weighted averages of these rates, depending on the respondent pool, to estimate the costs of the questionnaires and interviews. For the community partner focus groups, we used Social and Community Service Managers (11-9151) with a median hourly wage of $31.10 and an estimated cost with benefits of $40.96.

Most of the properties in the SSD are funded through HUD's Supportive Housing for the Elderly (Section 202) program. According to HUD's Picture of Subsidized Households for 2016 (https://www.huduser.gov/portal/datasets/assthsg.html), the average household income for Section 202 residents is $13,311. Some 98 percent of households have something other than wages or welfare benefits as their major source of income, in most cases Social Security benefits. To estimate the hourly cost for the residents of properties in the SSD, we translated the average monthly Social Security benefit for retired workers, which in 2017 was $1,369 (https://www.ssa.gov/news/press/factsheets/basicfact-alt.pdf), into an hourly rate of $7.90 (by multiplying by 12 months and dividing by 2,080 hours).

B. Solicitation of Public Comment

This notice solicits comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including the use of appropriate automated collection techniques or other forms of information technology, e.g., permitting electronic submission of responses.

HUD encourages interested parties to submit comment in response to these questions.

Authority: Section 3507 of the Paperwork Reduction Act of 1995, 44 U.S.C. Chapter 35.

Dated: February 7, 2018.
Todd M. Richardson,
Acting General Deputy Assistant, Secretary for Policy Development and Research.

[FR Doc. 2018-04041 Filed 2-27-18; 8:45 am]

BILLING CODE 4210-67-P